DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency has submitted the following proposed information collection to the Office of Management and Budget for review and clearance in accordance with the requirements of the Paperwork Reduction Act of 1995 (44 U.S.C. 3507).

Title: Pre-Disaster Mitigation Grant Program (PDM) E-Grants.

Type of Information Collection: Extension of a currently approved collection.

OMB Number: 1660-0071.

Abstract: This collection is necessary to provide Federal grant assistance to State, local governments, and federally recognized Indian tribal governments, to develop mitigation plans in accordance with section 322 of the Disaster Mitigation Act of 2000, to implement pre-disaster mitigation projects that primarily reduces the risks of natural hazards on life and property, but may include hazards caused by non-natural forces, and to provide information and technical assistance to cost-effective mitigation activities. FEMA will make the Pre-Disaster Mitigation grant application available on-line to States and local governments through a web-based e-Grants application process. The e-Grants system is being developed to meet the intent of the e-Governnment initiative. This initiative requires that all government agencies both streamline grant applications processes and provide for the means to electronically create, review, and submit a grant application via the Internet.

Affected Public: State, local or tribal government.

Number of Respondents: 1176.

Estimated Time per Respondent:

Grant Application and Reporting Forms
Type of collection forms | Number of respondents (A) | Number of reponses/respondent (B) | Hours per response and record keeping | Annual burden hours (A*B*C)
SF-424 (Application face sheet) | 56 | 2 | 45 minutes | 84.0
Budget Information—Construction Program, FEMA Form 20-15¹ | 56 | 1 | 17.2 hours | 963.2
FEMA Form 20-20 Budget—Non-Construction ¹ | 56 | 2 | 9.7 hours | 1086.4
FEMA Form 20-16, 20-16A, 20-16B, 20-16C (Summary of assurances & certifications) | 56 | 2 | 1.7 hours | 190.4
SF-LLL (lobbying disclosure) | 56 | 2 | 10 minutes | 18.7
FEMA Form 20-10—Financial Status Report, Quarterly Progress Report | 56 | 8 | 1 hour | 448.0
FEMA Form 76-10A Obligating Document For Award/Amendment | 56 | 2 | 1.2 hours | 134.40
FEMA Form 20-17 Outlay Report and Request for Reimbursement | 56 | 20 | 17.2 hours | 19264.0
FEMA Form 20-18 Report of Government Property | 56 | 2 | 4.2 hours | 235.2
FEMA 20-19—Report of Unobligated Balance (or substitute) | 56 | 2 | 5 minutes | 9.3
Annual Audit & Audit Trail Requirements | 56 | 1 | 30 hours | 28.0
Subtotal for OMB-Approved Standard (SF) and FEMA forms |  |  |  | 22013.4

Pre-Disaster Mitigation Grant Program—Grant Supplemental Information
Type of collection forms | Number of respondents (A) | Number of reponses/respondent (B) | Hours per response and record keeping | Annual burden hours (A*B*C)
Benefit-Cost Determination | 56 | 20 | 5 hours | 5600.0
Environmental Review | 56 | 20 | 7.5 hours | 8400.0
Program/Project Narrative (including PDM Supplemental Questions | 56 | 20 | 12 hours | 13440.0
Total Burden for PDM |  |  |  | 50,887

Estimated Total Annual Burden Hours: 50,887 hours.

Frequency of Response: On occasion.

Comments: Interested persons are invited to submit within 30 days of the date of this notice written comments on the proposed information collection to the FEMA Desk Officer at the Office of Management and Budget at e-mail address David_Rostker@omb.eop.gov.

FOR FURTHER INFORMATION CONTACT: Requests for additional information or copies of the information collection should be made to Muriel B. Anderson, Chief, Records Management Branch, Information Resources Management Division, Information Technology Services Directorate, Federal Emergency Management Agency at e-mail address InformationCollections@fema.gov.

Dated: November 13, 2003.
Edward W. Kernan,
Division Director, Information Resources Management Division, Information Technology Services Directorate.

[FR Doc. 03-30173 Filed 12-3-03; 8:45 am]

BILLING CODE 9110-13-P